DEPARTMENT OF ENERGY

Federal Energy Regulatory Commission

Trans-Union Interstate Pipeline, L.P.; Notice of Application

December 7, 2000.

Take notice that on November 22, 2000, Trans-Union Interstate Pipeline, L.P., (Applicant) 4100 Spring Valley, Suite 1001, Dallas, Texas 75244, tendered for filing an application, pursuant to section 7(c) of the Natural Gas Act (NGA), 15 U.S.C. 717(f), and the Federal Energy Regulatory Commission's Regulations under Part 284, Subpart G, 18 CFR part 284, Subpart G, for a blanket certificate of public convenience and necessity, authorizing it to undertake self-implementing interstate transportation of natural gas under a Part 284 Subpart G blanket transportation certificate. Applicant also requests approval of the “open access” rates and tariff submitted herewith. Applicant also seeks authorization of its negotiated rate proposal, all as more fully set forth in the application which is on file with the Commission and open to public inspection. The application may be viewed on the web at www.ferc.fed.us/online/rims.htm. (Call 202-208-2222 for assistance).

Applicant indicates that any questions regarding the application herein should be directed to project counsel, Ned Hengerer, at John & Hengerer, 1200 17th Street, NW., Washington, DC 20036 (202) 249-8811.

Applicant states that it will be a natural gas company subject to the Commission's NGA jurisdiction once its previously certificated facilities have been constructed and it has been authorized to commence service. It is indicated that the Commission's order issued July 26, 2000 in Docket No. CP00-47-000. Trans-Union Interstate Pipeline, L.P. 92 FERC ¶ 61,066, authorized Applicant to construct and operate facilities subject to the Commission's jurisdiction.

Applicant states that the Application is filed in compliance with Ordering Paragraph (E) of the July 26th order, which conditions the certificate on Applicant filing an application under Part 284, Subpart G, along with tariff and rates consistent with the Commission's Regulations within one hundred and twenty days (120) of the date of the order.

Applicant states that it will provide firm and interruptible transportation services on a non-discriminatory, open access basis, consistent with the Commission's Part 284 policy. It is stated that firm transportation will be offered when firm capacity is available, under Rate Schedule FT, and interruptible transportation service will be offered under Rate Schedule IT. Applicant asserts that its tariff complies with the Commission's policies and regulations established in Order Nos. 636 and 637, as well as the Gas Industry Standards Board (GISB), and that, to diverge in some limited respects from a strict construction of that policy, it requests the requisite waivers. Finally, Applicant requests negotiated rate approval in the context of this open access certificate filing.

Any person desiring to be heard or to protest this filing should file a motion to intervene or protest with the Federal Energy Regulatory Commission, Washington, DC 20426, in accordance with sections 385.214 and 385.211 of the Commission's Rules and Regulations. All such motions or protests must be filed on or before December 28, 2000. Protests will be considered by the Commission in determining the appropriate action to be taken, but will not serve to make protestants parties to the proceeding. Any person wishing to become a party must file a motion to intervene. Copies of this filing are on file with the Commission and are available for public inspection in the Public Reference Room. Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-31857 Filed 12-13-00; 8:45 am]

BILLING CODE 6717-01-M